DEPARTMENT OF ENERGY

Federal Energy Regulatory Commission

Combined Notice of Filings #1

Take notice that the Commission received the following exempt wholesale generator filings:

Docket Numbers: EG25-51-000.

Applicants: Woodward Energy Storage, LLC.

Description: Woodward Energy Storage, LLC submits Notice of Self-Certification of Exempt Wholesale Generator Status.

Filed Date: 12/4/24.

Accession Number: 20241204-5135.

Comment Date: 5 p.m. ET 12/26/24.

Take notice that the Commission received the following electric rate filings:

Docket Numbers: ER20-1977-007.

Applicants: Versant Power.

Description: Compliance filing: Joint Offer of Settlement Regarding MPD 2024-2025 Charges (ER20-1977-) to be effective N/A.

Filed Date: 12/4/24.

Accession Number: 20241204-5128.

Comment Date: 5 p.m. ET 12/26/24.

Docket Numbers: ER25-331-001.

Applicants: Southwestern Public Service Company.

Description: Tariff Amendment: 2024.12.04 Errata Production FERC Order 898 to be effective 1/1/2025.

Filed Date: 12/4/24.

Accession Number: 20241204-5162.

Comment Date: 5 p.m. ET 12/26/24.

Docket Numbers: ER25-635-000.

Applicants: Mid-Atlantic Interstate Transmission, LLC.

Description: 205(d) Rate Filing: MAIT submits Construction Agmnt, SA No. 7168 to be effective 2/3/2025.

Filed Date: 12/4/24.

Accession Number: 20241204-5023.

Comment Date: 5 p.m. ET 12/26/24.

Docket Numbers: ER25-636-000.

Applicants: Southwest Power Pool, Inc.

Description: 205(d) Rate Filing: 2900R25 KMEA NITSA NOA to be effective 12/1/2024.

Filed Date: 12/4/24.

Accession Number: 20241204-5027.

Comment Date: 5 p.m. ET 12/26/24.

Docket Numbers: ER25-637-000.

Applicants: Midcontinent Independent System Operator, Inc.

Description: 205(d) Rate Filing: 2024-12-04_SA 4405 Cleco Power-Cleco Power GIA (Rodemacher) to be effective 11/25/2024.

Filed Date: 12/4/24.

Accession Number: 20241204-5029.

Comment Date: 5 p.m. ET 12/26/24.

Docket Numbers: ER25-638-000.

Applicants: Midcontinent Independent System Operator, Inc.

Description: 205(d) Rate Filing: 2024-12-04_SA 4408 Cleco Power-Cleco Power GIA (Nesbitt) to be effective 11/26/2024.

Filed Date: 12/4/24.

Accession Number: 20241204-5033.

Comment Date: 5 p.m. ET 12/26/24.

Docket Numbers: ER25-639-000.

Applicants: PJM Interconnection, L.L.C.

Description: 205(d) Rate Filing: Amendment to ISA, SA No. 5561; Queue No. AC1-043/AD1-115 (amend) to be effective 2/3/2025.

Filed Date: 12/4/24.

Accession Number: 20241204-5035.

Comment Date: 5 p.m. ET 12/26/24.

Docket Numbers: ER25-640-000.

Applicants: AEP Texas Inc.

Description: 205(d) Rate Filing: AEPTX-Lunis Creek Solar Project 2nd Amended Generation Interconnection Agreement to be effective 11/8/2024.

Filed Date: 12/4/24.

Accession Number: 20241204-5038.

Comment Date: 5 p.m. ET 12/26/24.

Docket Numbers: ER25-641-000.

Applicants: Southwest Power Pool, Inc.

Description: 205(d) Rate Filing: 1266R17 Kansas Municipal Energy Agency NITSA and NOA to be effective 12/1/2024.

Filed Date: 12/4/24.

Accession Number: 20241204-5040.

Comment Date: 5 p.m. ET 12/26/24.

Docket Numbers: ER25-642-000.

Applicants: New York Independent System Operator, Inc.

Description: 205(d) Rate Filing: NYISO 205: Withdrawing Customer Credit Requirements to be effective 2/3/2025.

Filed Date: 12/4/24.

Accession Number: 20241204-5047.

Comment Date: 5 p.m. ET 12/26/24.

Docket Numbers: ER25-643-000.

Applicants: PJM Interconnection, L.L.C.

Description: 205(d) Rate Filing: Original CSA Service Agreement No. 7421; Project Identifier #Q387 to be effective 11/4/2024.

Filed Date: 12/4/24.

Accession Number: 20241204-5089.

Comment Date: 5 p.m. ET 12/26/24.

Docket Numbers: ER25-644-000.

Applicants: PJM Interconnection, L.L.C.

Description: 205(d) Rate Filing: Original CSA Service Agreement No. 7422; Project Identifier #NYISO-Q421 to be effective 11/4/2024.

Filed Date: 12/4/24.

Accession Number: 20241204-5098.

Comment Date: 5 p.m. ET 12/26/24.

Docket Numbers: ER25-646-000.

Applicants: Dominion Energy South Carolina, Inc.

Description: 205(d) Rate Filing: Columbia Hydro CIAC Amendment to be effective 2/3/2025.

Filed Date: 12/4/24.

Accession Number: 20241204-5113.

Comment Date: 5 p.m. ET 12/26/24.

Docket Numbers: ER25-648-000.

Applicants: Horizon West Transmission, LLC.

Description: 205(d) Rate Filing: HWT TRBAA 2025 Annual Update to be effective 1/1/2025.

Filed Date: 12/4/24.

Accession Number: 20241204-5126.

Comment Date: 5 p.m. ET 12/26/24.

Docket Numbers: ER25-649-000.

Applicants: Nevada Power Company.

Description: 205(d) Rate Filing: NITSA-24-00065_NOA-24-00065_TIA-24-00067 Filing to be effective 12/5/2024.

Filed Date: 12/4/24.

Accession Number: 20241204-5158.

Comment Date: 5 p.m. ET 12/26/24.

Docket Numbers: ER25-650-000.

Applicants: Midcontinent Independent System Operator, Inc.

Description: 205(d) Rate Filing: 2024-12-04_SA 3193 Ameren Illinois-Hickory Solar 2nd Rev GIA (J644) to be effective 11/25/2024.

Filed Date: 12/4/24.

Accession Number: 20241204-5196.

Comment Date: 5 p.m. ET 12/26/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 4, 2024.
Carlos D. Clay,
Acting Deputy Secretary.

[FR Doc. 2024-28957 Filed 12-9-24; 8:45 am]

BILLING CODE 6717-01-P